INTERNATIONAL TRADE COMMISSION

[Investigation No. 337-TA-1247]

Certain Wireless Communications Equipment and Components Thereof; Commission Determination Not To Review an Initial Determination Terminating the Investigation in Its Entirety; Termination of the Investigation

AGENCY: U.S. International Trade Commission.

ACTION: Notice.

SUMMARY: Notice is hereby given that the U.S. International Trade Commission has determined not to review an initial determination (“ID”) (Order No. 9) terminating the investigation based on settlement. The investigation is terminated.

FOR FURTHER INFORMATION CONTACT: Amanda P. Fisherow, Office of the General Counsel, U.S. International Trade Commission, 500 E Street SW, Washington, DC 20436, telephone (202) 205-2737. Copies of non-confidential documents filed in connection with this investigation may be viewed on the Commission's electronic docket information system (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal, telephone (202) 205-1810.

SUPPLEMENTARY INFORMATION: The Commission instituted the present investigation on February 12, 2021, based on a complaint and supplement thereto filed by Samsung Electronics Co., Ltd. of Gyeonggi-do, Korea and Samsung Electronics America, Inc. of Ridgefield Park, New Jersey (collectively, “Complainants”). 85 FR 9370-71 (Feb. 12, 2021). The complaint, as supplemented, alleged violations of section 337 of the Tariff Act of 1930, as amended, 19 U.S.C. 1337, based upon the importation, sale for importation, and sale in the United States after importation of certain wireless communications equipment and components thereof by reason of infringement of certain claims of U.S. Patent No. 9,041,074; U.S. Patent No. 9,521,616; U.S. Patent No. 9,736,772; and U.S. Patent No. 10,797,405. Id. at 9371. The complaint further alleged that an industry in the United States exists or is in the process of being established, as required by section 337. Id. The notice of investigation named Ericsson AB of Stockholm, Sweden, and Telefonaktiebolaget LM Ericsson of Stockholm, Sweden, and Ericsson Inc., of Plano, Texas. Id.

On May 14, 2021, the parties filed a joint motion to terminate the investigation based on settlement. The parties represent that “there are no other agreements, written or oral, expressed or implied between Samsung and Ericsson concerning the subject matter of the investigation.” See ID at 2.

On June 10, 2021, the presiding administrative law judge issued Order No. 9, granting the joint motion to terminate the investigation. The ID finds that the motion complies with the requirements of Commission Rule 210.21(19 CFR 210.21) and there will not be a negative impact on the public interest. No party filed a petition for review of the ID.

The Commission has determined not to review this ID. The investigation is terminated.

The Commission vote for this determination took place on June 28, 2021.

The authority for the Commission's determination is contained in Section 337 of the Tariff Act of 1930, as amended (19 U.S.C. 1337), and in part 210 of the Commission's Rules of Practice and Procedure (19 CFR part 210).

By order of the Commission.
Issued: June 28, 2021.
Lisa Barton,
Secretary to the Commission.

[FR Doc. 2021-14149 Filed 7-1-21; 8:45 am]

BILLING CODE 7020-02-P